ENVIRONMENTAL PROTECTION AGENCY

[ER-FRL-6673-1]

Environmental Impacts Statements; Notice of Availability

Responsible Agency: Office of Federal Activities, General Information (202) 564-7167 or http://www.epa.gov/compliance/nepa/.

Weekly receipt of Environmental Impact Statements

Filed February 27, 2006 Through March 3, 2006

Pursuant to 40 CFR 1506.9.

EIS No. 20060067, Draft EIS, GSA, CA, Los Angeles Federal Bureau of Investigation (FBI) Federal Building, Consolidation of FBI Field Office Headquarters and 11 other Satellite Offices, Federal Central District, Los Angeles, CA, Comment Period Ends: April 24, 2006, Contact: Morris Angell 415-522-3473.

EIS No. 20060068, Draft EIS, AFS, ID, Emerald Creek Garnet Area, To Provide a Public Recreational Area for Collecting Garnet Gemstone, U.S. Army COE Section 404 Permit, Idaho Panhandle National Forest, St. Joe Ranger District, Latah County, ID, Comment Period Ends: April 24, 2006, Contact: Tracy Gravelle 208-245-6200.

EIS No. 20060069, Draft EIS, FHW, CA, Interstate 5/Cosumnes River Boulevard Interchange Project, Extension of Cosumnes River Boulevard from Franklin Boulevard to Freeport Boulevard with an Interchange at Interstate 5, South of the Pocket/Meadowview Road Interchange and North of the Laguna Boulevard Interchange, City of Sacramento, Sacramento County, CA, Comment Period Ends: April 28, 2006, Contact: Cesar E. Perez 916-498-5865.

EIS No. 20060070, Final EIS, AFS, OR, Tamarack Quarry Expansion Project, Secure a Long-Term Economical Source of Rock Material to Use for Highway and Road Maintenance, Mt. Hood National Forest, Clackamas County, OR, Wait Period Ends: April 10, 2006, Contact: Mike Redmond 503-668-1776 .

This document is available on the Internet at: http://www.fs.fed.us/r6/mthood/projects/documents.

EIS No. 20060071, Draft EIS, AFS, NM, Santa Fe National Forest Plan Amendment for Oil & Gas Leasing and Roads Management, Implementation, San Juan Basin, Cuba Ranger District, NM, Comment Period Ends: April 24, 2006, Contact: Allen Fowler 505-438-7821.

EIS No. 20060072, Draft EIS, FHW, 00, US59—Amelia Earhart Memorial Bridge over the Missouri River, Construction from Atchison, Kansas to US59/State Route 45 Intersection, U.S. Coast Guard Section 9 Permit and U.S. Army COE Section 10 and 404 Permits, Atchison, KS and Buchanan County, MO, Comment Period Ends: May 1, 2006, Contact: Kurt Dunn 785-271-2448, Ext. 207.

EIS No. 20060073, Draft EIS, NRS, AR, Little Red River Irrigation Project, Develop a Water Management Plan for Irrigation Purposes in Seary, U.S. Army COE Section 404 Permit, Raft Creek, White County, AR, Comment Period Ends: April 24, 2006, Contact: Belinda Bell 501-301-3100.

EIS No. 20060074, Draft EIS, AFS, AZ, Deep Lake Allotment Project, Proposes to Re-authorize Grazing, Mormon Lake Ranger District, Coconino National District, Coconino County, AZ, Comment Period Ends: April 24, 2006, Contact:

Katherine Sanchez Meador 928-527-8263.

EIS No. 20060075, Draft EIS, AFS, 00, Wasatch-Cache National Forest Noxious Weed Treatment Program, Proposes to Treat Noxious Weeds 1.2 Million Acres of Wilderness and Non-Wilderness Areas, several counties, UT and Uinta County, WY, Comment Period Ends: April 24, 2006, Contact: Mike Duncan 801-236-3415.

EIS No. 20060076, Final EIS, CGD, 00, Main Pass Energy Hub Deepwater Port License Application, Proposes to Construct a Deepwater Port and Associated Anchorages, U.S. Army COE Section 10 and 404 Permit, Gulf of Mexico (GOM), southeast of the coast of Louisiana in Main Pass Block (MP) 299 and from the Mississippi coast in MP 164, Wait Period Ends: April 24, 2006, Contact: Mark A. Prescott 202-267-0225.

Dated: March 7, 2006.
Robert W. Hargrove,
Director, NEPA Compliance Division, Office of Federal Activities.

[FR Doc. 06-2314 Filed 3-9-06; 8:45 am]

BILLING CODE 6560-50-P